DEPARTMENT OF THE INTERIOR

Bureau of Land Management

[CO-840-1610-DR]

Notice of Availability of Record of Decision for the Canyons of the Ancients National Monument Resource Management Plan/Environmental Impact Statement

AGENCY: Bureau of Land Management, Interior.

ACTION: Notice of availability.

SUMMARY: The Bureau of Land Management (BLM) announces the availability of the Record of Decision (ROD)/Approved Resource Management Plan (RMP) for the Canyons of the Ancients National Monument located in Montezuma and Dolores counties in southwest Colorado. The Colorado State Director signed the ROD on June 14, 2010, which constitutes the final decision of the BLM and makes the Approved RMP effective immediately.

ADDRESSES: Copies of the ROD/Approved RMP are available upon request from the Field Manager, Anasazi Heritage Center, Bureau of Land Management, 27501 Highway 184, Dolores, Colorado 81323. Copies of the ROD/Approved RMP are available for public inspection at:

• Anasazi Heritage Center, 27501 Highway 184, Dolores, Colorado 81323

• Dolores Public Lands Center, 29211 Highway 184, Dolores, Colorado 81323

• San Juan Public Lands Center, 15 Burnett Court, Durango, Colorado 81301

• Dolores Public Library, 420 Railroad Ave., Dolores, Colorado 81323

• Cortez Public Library, 202 N. Park, Cortez, Colorado 81321

• Mancos Public Library, 111 N. Main, Mancos, Colorado 81328

• Dolores County Extension Office, 409 N. Main, Dove Creek, Colorado 81324

• Durango Public Library, 1188 E. 2nd Ave., Durango, Colorado 81301

Interested persons may also review the ROD/Approved RMP at the following Web site: http://www.blm.gov/rmp/canm.

FOR FURTHER INFORMATION CONTACT: Heather Musclow, Monument Planner, Canyons of the Ancients National Monument, 27501 Highway 184, Dolores, Colorado 81323, Phone: (970) 882-5632.

SUPPLEMENTARY INFORMATION: The planning effort for the Canyons of the Ancients National Monument officially began in April 2002 with an extended public scoping period. Since then the BLM has maintained public interest and input through meetings and workshops, open houses, field trips, presentations, newsletters, public notices and announcements, and a planning Web site. In addition, an 11-member Monument Advisory Committee was established in June 2003, and continues today as a Monument Sub-Group of the Southwest Resource Advisory Council, to provide recommendations on management of the Monument. The Plan is a result of a collaborative process that involved local, state, Federal and tribal interests. The plan provides a framework to guide subsequent management decisions on approximately 170,730 acres managed by the BLM. Within the Monument boundary, there are approximately 400 acres of National Park Service lands (Hovenweep National Monument) and 12,200 acres of private inholdings. Until the signing of the ROD, the Canyons of the Ancients National Monument was being managed under the BLM 1985 San Juan/San Miguel RMP and the Interim Guidance provided after the National Monument was established. The current Approved RMP now provides the management direction for the National Monument. The Monument was established to protect nationally and internationally significant cultural and natural resources on a landscape scale, and is a component of the BLM's National Landscape Conservation System. The Plan balances this primary focus with ongoing multiple-uses including fluid mineral extraction, livestock grazing, recreation use, and transportation needs. The Proposed RMP/Final Environmental Impact Statement (EIS) was published in July 2009, and identified a proposed plan which has been carried forward in the ROD. Fourteen protests were received on the Proposed RMP/Final EIS. No inconsistencies were identified with state plans during the Governor's consistency review of the Proposed RMP/Final EIS. The Montezuma County Comprehensive Plan, however, “places the highest priority on the continuation of traditional and historic uses such as grazing, timber harvesting, mining, and energy development” (Pg. 12-2, No 4). No changes to the proposed plan occurred as a result of these reviews. Minor clarifications were made in preparing the Approved RMP and are highlighted in the ROD. The decisions identifying routes of travel within designated areas are implementation decisions and are appealable under 43 CFR Part 4. These decisions are contained on Map 5 of the Approved RMP. Any party adversely affected by the proposed route identifications may appeal within 30 days of publication of this Notice of Availability pursuant to 43 CFR part 4, subpart E. The appeal should state the specific route(s), as identified on Map 5 of the Approved RMP, on which the decision is being appealed. The appeal must be filed with the Monument Manager at the above listed address. Please consult the appropriate regulations (43 CFR part 4, subpart E) for further appeal requirements.

Authority: 40 CFR 1506.6.

Helen M. Hankins,
State Director.

[FR Doc. 2010-15363 Filed 6-24-10; 8:45 am]

BILLING CODE 4310-JB-P